DEPARTMENT OF COMMERCE

International Trade Administration

[A-570-985]

Xanthan Gum From the People's Republic of China: Preliminary Results of 2013 Antidumping Duty New Shipper Review

AGENCY: Enforcement and Compliance, International Trade Administration, Department of Commerce.

SUMMARY: The Department of Commerce (“the Department”) is conducting a new shipper review (“NSR”) of the antidumping duty order on xanthan gum from the People's Republic of China (“PRC”). The NSR covers Meihua Group International Trading (Hong Kong) Limited, Langfang Meihua Bio-Technology Co., Ltd., and Xinjiang Meihua Amino Acid Co., Ltd. (collectively, “Meihua”). The period of review (“POR”) is July 19, 2013, through December 31, 2013. The Department preliminarily determines that Meihua has not made sales of subject merchandise at less than normal value. Interested parties are invited to comment on the preliminary results of this review.

DATES: Effective Date: December 31, 2014.

FOR FURTHER INFORMATION CONTACT: Brandon Farlander, AD/CVD Operations, Office IV, Enforcement and Compliance, International Trade Administration, Department of Commerce, 1401 Constitution Avenue NW., Washington, DC 20230; telephone: (202) 482-0182.

SUPPLEMENTARY INFORMATION:

Scope of the Order

The scope of the order covers dry xanthan gum, whether or not coated or blended with other products. Further, xanthan gum is included in this order regardless of physical form, including, but not limited to, solutions, slurries, dry powders of any particle size, or unground fiber. Merchandise covered by the scope of this order is classified in the Harmonized Tariff Schedule (“HTS”) of the United States at subheading 3913.90.20. This tariff classification is provided for convenience and customs purposes; however, the written description of the scope is dispositive.¹

¹ For a complete description of the Scope of the Order, see “Decision Memorandum for the Preliminary Results of the 2013 Antidumping Duty New Shipper Review of Xanthan Gum from the People's Republic of China,” from Christian Marsh, Deputy Assistant Secretary for Antidumping and Countervailing Duty Operations, to Ronald K. Lorentzen, Acting Assistant Secretary for Enforcement and Compliance (“Preliminary Decision Memorandum”), dated concurrently with this notice.

Preliminary Affiliation Determination

Based on the evidence presented in Meihua's questionnaire responses, we preliminarily find that Meihua Group International Trading (Hong Kong) Limited, Langfang Meihua Bio-Technology Co., Ltd., and Xinjiang Meihua Amino Acid Co., Ltd. are affiliated, pursuant to section 771(33)(F) of the Tariff Act of 1930, as amended (“the Act”). In addition, based on the information presented in the questionnaire responses, we preliminarily find that Meihua Group International Trading (Hong Kong) Limited, Langfang Meihua Bio-Technology Co., Ltd., and Xinjiang Meihua Amino Acid Co., Ltd. should be treated as a single company for the purposes of this review pursuant to section 19 CFR 351.401(f).²

² See the memorandum from Brandon Farlander, International Trade Analyst, AD/CVD Operations Office IV to Abdelali Elouaradia, Director, AD/CVD Operations Office IV regarding “Xanthan Gum from the People's Republic of China: Affiliation and Single Company Status” dated concurrently with this notice.

Methodology

The Department is conducting this review in accordance with section 751(a)(2)(B) of the Act and 19 CFR 351.214. The Department calculated export price in accordance with section 772 of the Act. Because the PRC is a nonmarket economy (“NME”) within the meaning of section 771(18) of the Act, the Department calculated normal value in accordance with section 773(c) of the Act. For a full description of the methodology underlying our conclusions, see the Preliminary Decision Memorandum, which is hereby adopted with this notice. The Preliminary Decision Memorandum is a public document and is on file electronically via Enforcement and Compliance's Antidumping and Countervailing Duty Centralized Electronic Service System (“ACCESS”). ACCESS is available to registered users at http://access.trade.gov and is available in the Central Records Unit, room 7046 of the main Department of Commerce building.³ In addition, a complete version of the Preliminary Decision Memorandum can be accessed directly at http://enforcement.trade.gov/frn/.

³ ACCESS is the new acronym for Enforcement and Compliance's Antidumping and Countervailing Duty Centralized Electronic Service System (IA ACCESS). We changed the Web site location from http://iaaccess.trade.gov to http://access.trade.gov. See 19 CFR 351.303, as amended in Enforcement and Compliance; Change of Electronic Filing System Name, 79 FR 69046 (November 20, 2014).

Preliminary Results of Review

We preliminarily determine that the following weighted-average dumping margin exists for the period July 19, 2013 through December 31, 2013:

Exporter | Producer | Weighted- average dumping margin (percent)
Meihua Group International Trading (Hong Kong) Limited/Langfang Meihua Bio-Technology Co., Ltd./Xinjiang Meihua Amino Acid Co., Ltd. | Meihua Group International Trading (Hong Kong) Limited/Langfang Meihua Bio-Technology Co., Ltd./Xinjiang Meihua Amino Acid Co., Ltd. | 0.00%

Disclosure and Public Comment

In accordance with 19 CFR 351.224(b), the Department will disclose calculations performed for the preliminary results of review to parties within five days of the date of publication of this notice. Interested parties may submit case briefs no later than 30 days after the date of publication of the preliminary results of review.⁴ Rebuttals to case briefs may be filed no later than five days after the time limit for filing case briefs.⁵ All rebuttal comments must be limited to comments raised in the case briefs.⁶ Parties who submit case briefs or rebuttal briefs in this proceeding are encouraged to submit with each argument: (1) A statement of the issue; (2) a brief summary of the argument; and (3) a table of authorities.⁷

⁴ See 19 CFR 351.309(c).

⁵ See 19 CFR 351.309(d)(1).

⁶ See 19 CFR 351.309(d)(2).

⁷ See 19 CFR 351.309(c)(2) and (d)(2).

Interested parties who wish to request a hearing must submit a written request to the Assistant Secretary for Enforcement and Compliance, U.S. Department of Commerce, within 30 days after the date of publication of this notice.⁸ Requests should contain the party's name, address, and telephone number, the number of participants, and a list of the issues to be discussed. Oral arguments are limited to issues raised in case briefs. If a request for a hearing is made, the Department intends to hold the hearing at the U.S. Department of Commerce, 14th Street and Constitution Avenue NW., Washington, DC 20230, at a date and time to be determined.⁹ Parties should confirm by telephone the date, time, and location of the hearing two days before the scheduled date.

⁸ See 19 CFR 351.310(c).

⁹ See 19 CFR 351.310(d).

All submissions, with limited exceptions, must be filed electronically using ACCESS.¹⁰ An electronically filed document must be received successfully in its entirety by the Department's electronic records system, ACCESS, by 5 p.m. Eastern Time (“ET”) on the due date. Documents excepted from the electronic submission requirements must be filed manually (i.e., in paper form) with the APO/Dockets Unit in Room 1870 of the main Department of Commerce building and stamped with the date and time of receipt by 5 p.m. ET on the due date.¹¹

¹⁰ See, generally, 19 CFR 351.303.

¹¹ See Antidumping and Countervailing Duty Proceedings: Electronic Filing Procedures; Administrative Protective Order Procedures, 76 FR 39263 (July 6, 2011).

The Department intends to issue the final results of this NSR, which will include the results of its analysis of issues raised in any briefs received, no later than 90 days after the date these preliminary results of review are issued pursuant to section 751(a)(2)(B)(iv) of the Act and 19 CFR 351.214(i)(1).

Assessment Rates

Upon issuing the final results of this review, the Department will determine, and U.S. Customs and Border Protection (“CBP”) shall assess, antidumping duties on all appropriate entries covered by this review.¹² The Department intends to issue assessment instructions to CBP 15 days after the publication date of the final results of this review.

¹² See 19 CFR 351.212(b).

If Meihua's weighted-average dumping margin is above de minimis (i.e., 0.5 percent) in the final results of this review, the Department will calculate importer-specific assessment rates on the basis of the ratio of the total amount of dumping calculated for the importer's examined sales to the total entered value of those sales, in accordance with 19 CFR 351.212(b)(1).¹³ Where an importer- (or customer-) specific ad valorem rate is greater than de minimis, the Department will instruct CBP to collect the appropriate duties at the time of liquidation.¹⁴ Where either Meihua's weighted average dumping margin is zero or de minimis, or an importer- (or customer-) specific ad valorem dumping margin is zero or de minimis, the Department will instruct CBP to liquidate appropriate entries without regard to antidumping duties.¹⁵ For entries that were not reported in the U.S. sales database submitted by Meihua, the Department will instruct CBP to liquidate such entries at the PRC-wide rate.¹⁶

¹³ In these preliminary results, the Department applied the assessment rate calculation method adopted in Antidumping Proceedings: Calculation of the Weighted-Average Dumping Margin and Assessment Rate in Certain Antidumping Proceedings: Final Modification, 77 FR 8101 (February 14, 2012).

¹⁴ See 19 CFR 351.212(b)(1).

¹⁵ Id.

¹⁶ For a full discussion of this practice, see Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by sections 751(a)(2)(C) of the Act: (1) For subject merchandise produced and exported by Meihua, the cash deposit rate will be the rate established for Meihua in the final results of the NSR (except, if the rate is zero or de minimis, then a zero cash deposit will be required); (2) for subject merchandise exported by Meihua, but not produced by Meihua, the cash deposit rate will be the rate for the PRC-wide entity; and (3) for subject merchandise produced by Meihua, but not exported by Meihua, the cash deposit rate will be the rate applicable to the exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(2)(B) and 777(i)(1) of the Act and 19 CFR 351.214.

Dated: December 18, 2014.
Ronald K. Lorentzen,
Acting Assistant Secretary for Enforcement and Compliance.

Appendix

List of Topics Discussed in the Preliminary Decision Memorandum

1. Bona Fide Sale Analysis

2. Non-Market Economy Country Status

3. Separate Rate

4. Surrogate Country

5. Date of Sale

6. Fair Value Comparisons

7. U.S. Price

8. Normal Value

[FR Doc. 2014-30660 Filed 12-30-14; 8:45 am]

BILLING CODE 3510-DS-P